DEPARTMENT OF THE INTERIOR

National Park Service

[NPS-WASO-NRNHL-DTS#-37662; PPWOCRADI0, PCU00RP14.R50000]

National Register of Historic Places; Notification of Pending Nominations and Related Actions

AGENCY: National Park Service, Interior.

ACTION: Notice.

SUMMARY: The National Park Service is soliciting electronic comments on the significance of properties nominated before March 16, 2024, for listing or related actions in the National Register of Historic Places.

DATES: Comments should be submitted electronically by April 11, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 16, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

KANSAS

Brown County

Guild, William and Augusta, House, 610 Miami Street, Hiawatha, SG100010232

KENTUCKY

Jefferson County

Jefferson County Fiscal Court Building, 531 Court Place, Louisville, SG100010228

OHIO

Belmont County

Stratton Flour Mill, 110 Mill Road, Flushing, SG100010231

Hamilton County

Potter's Field—West Price Hill, 4700 Guerley Road, Cincinnati, SG100010226

TEXAS

Montgomery County

Montgomery County Hospital, 301 S 1st Street, Conroe, SG100010230

A request to move has been received for the following resource(s):

ILLINOIS

Calhoun County

Kamp Store, Jct. of Oak and Broadway, NE corner, Kampsville, MV94000027

Authority: Section 60.13 of 36 CFR part 60.

Sherry A. Frear,
Chief, National Register of Historic Places/National Historic Landmarks Program.

[FR Doc. 2024-06435 Filed 3-26-24; 8:45 am]

BILLING CODE 4312-52-P